DEPARTMENT OF COMMERCE

National Oceanic and Atmospheric Administration

50 CFR Part 648

[Docket No. 140616510-4510-01]

RIN 0648-BE33

Fisheries of the Northeastern United States; Summer Flounder Fishery; Notice of a Control Date for the Purpose of Limiting Entry to the Summer Flounder Fishery; Summer Flounder, Scup, and Black Sea Bass Fishery Management Plan

AGENCY: National Marine Fisheries Service (NMFS), National Oceanic and Atmospheric Administration (NOAA), Commerce.

ACTION: Advance notice of proposed rulemaking (ANPR); request for comments.

SUMMARY: At the request of the Mid-Atlantic Fishery Management Council, this notice announces a control date that may be used to limit the number of participants in the commercial summer flounder fishery. The control date is intended to help the Council to identify latent effort in the summer flounder fishery. NMFS intends this notice to promote awareness of possible rulemaking, alert interested parties of potential eligibility criteria for future access, and discourage speculative entry into and/or investment in the summer flounder fishery while the Mid-Atlantic Fishery Management Council and NMFS consider if and how participation in the summer flounder fishery should be controlled. We are soliciting comments on this action.

DATES: August 1, 2014 shall be known as the “control date” for the summer flounder fishery, and may be used as a reference date for future management measures related to the maintenance of a fishery with characteristics consistent with the Council's objectives and applicable Federal laws. Written comments must be received on or before September 2, 2014.

ADDRESSES: You may submit comments on this document, identified by NOAA-NMFS-2014-0074 by any of the following methods:

Electronic Submission: Submit all electronic public comments via the Federal e-Rulemaking Portal. Go to www.regulations.gov/#!docketDetail;D=NOAA-NMFS-2014-0074, click the “Comment Now!” icon, complete the required fields, and enter or attach your comments.

Mail: Submit written comments to John K. Bullard, Regional Administrator, National Marine Fisheries Service, 55 Great Republic Drive, Gloucester, MA 01930. Mark the outside of the envelope, “Comments on Summer Flounder Control Date.”

Instructions: Comments must be submitted by one of the above methods to ensure that the comments are received, documented, and considered by NMFS. We may not consider comments sent by any other method, to any other address or individual, or received after the end of the comment period. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). We accept attachments to electronic comments only in Microsoft Word or Excel, WordPerfect, or Adobe PDF file formats.

FOR FURTHER INFORMATION CONTACT: Carly Bari, Fishery Management Specialist, 978-281-9224.

SUPPLEMENTARY INFORMATION: In 1988, NMFS implemented the Summer Flounder Fishery Management Plan (FMP) to manage summer flounder following a decline in summer flounder abundance. Regulations for the summer flounder fishery are found at 50 CFR part 648, subpart G. The summer flounder fishery is composed of a limited access commercial fishery and an open access recreational fishery. A previous control date for the summer flounder fishery was established on January 26, 1990, shortly after the implementation of the FMP, and in anticipation of management measures implemented as part of Amendment 2 to the FMP. Amendment 2 included implementation of a moratorium on new permits and quotas for the summer flounder fishery.

On June 16, 2014, the Mid-Atlantic Fishery Management Council requested that NMFS publish this control date for the summer flounder fishery. This new control date would apply to participants in the commercial summer flounder fishery. The owner or operator of a vessel that landed any summer flounder between January 26, 1985, and January 26, 1990, was able to qualify for a Federal limited access summer flounder permit under Amendment 2. Because of the broad initial requirements of the commercial moratorium permit, the Council is concerned that there is latent effort in the commercial summer flounder fishery. This Advance Notice of Proposed Rulemaking is intended to help the Council determine more accurate information on effort in the summer flounder fishery while the Council prepares for future amendments to the FMP. The date upon which this notice is published shall be known as the “control date,” which is intended to distinguish established participation from latent or speculative effort in the fishery.

This notification establishes August 1, 2014, as the new control date for potential use in determining historical or traditional participation in the summer flounder fishery. Establishing a control date does not commit the Council or NMFS to develop any particular management regime or criteria for participation in this fishery. In the future, the Council may choose a different control date, or a management program that does not make use of any control date. Any future action by NMFS will be taken pursuant to the Magnuson-Stevens Fishery Conservation and Management Act. NMFS is soliciting comment on the control date, latent effort and limiting accessing in the summer flounder fishery.

This notification also gives the public notice that interested participants should locate and preserve records that substantiate and verify their participation in the summer flounder fishery.

This notification and control date do not impose any legal obligations, requirements, or expectations.

Authority: 16 U.S.C. 1801 et seq.

Dated: July 28, 2014.
Samuel D. Rauch III,
Deputy Assistant Administrator for Regulatory Programs, National Marine Fisheries Service.

[FR Doc. 2014-18094 Filed 7-31-14; 8:45 am]

BILLING CODE 3510-22-P